DEPARTMENT OF AGRICULTURE

Office of the Secretary

2 CFR Subtitle B, Chapter IV

5 CFR Chapter LXXIII

7 CFR Subtitle A; Subtitle B, Chapters I through XI, XIV through XVIII, XX, XXV through XXXVIII, XLI, and XLII

9 CFR Chapters I through III

36 CFR Chapter II

48 CFR Chapter 4

Identifying and Reducing Regulatory Burdens

AGENCY: Office of the Secretary, USDA.

ACTION: Request for Information (RFI).

SUMMARY: In accordance with Executive Order 13563, “Improving Regulation and Regulatory Review,” and Executive Order 13610, “Identifying and Reducing Regulatory Burdens,” the U.S. Department of Agriculture (USDA) continues to review its existing regulations and information collections to evaluate the continued effectiveness in addressing the circumstances for which the regulations were implemented. USDA's Final Plan for Retrospective Analysis, released August 18, 2011, focused on actions needed to minimize the burdens on individuals, businesses, and communities attempting to access programs that promote economic growth, create jobs, and protect the health and safety of the American people. The plan identified initiatives estimated to realize significant savings in terms of money and burden-hours. As part of this ongoing review to maximize the cost-effectiveness of its regulatory programs, USDA invites public comment to assist in analyzing its existing significant regulations to determine whether any should be modified, streamlined, expanded, or repealed. The focus of this review is to identify areas where savings can be achieved through increased use of advanced information technology to transition from paper submissions to electronic submissions; streamlining or redesigning existing information collections to both reduce the reporting burden on the public for participation in and compliance with USDA programs; reducing duplication through increased data sharing and harmonization for programs with similar regulatory requirements; and providing increased regulatory flexibility to achieve desired program outcomes and maximize cost-effectiveness.

DATES: Comments and information are requested on or before May 18, 2015.

ADDRESSES: Interested persons are invited to submit comments regarding this notice. All submissions must refer to “Retrospective Review” to ensure proper delivery.

• Electronic Submission of Comments. Interested persons may submit comments electronically through the Federal eRulemaking Portal: http://www.regulations.gov. USDA strongly encourages commenters to submit comments electronically. Electronic submission of comments allows the commenter maximum time to prepare and submit a comment, and ensures timely receipt by USDA. Commenters should follow the instructions provided on that site to submit comments electronically.

• Submission of Comments by Mail, Hand delivery, or Courier. Paper, disk, or CD-ROM submissions should be submitted to Michael Poe, Office of Budget and Program Analysis, USDA, Jamie L. Whitten Building, Room 101-A, 1400 Independence Ave. SW., Washington, DC 20250.

FOR FURTHER INFORMATION CONTACT: Michael Poe, Telephone Number: (202) 720-3257.

SUPPLEMENTARY INFORMATION: USDA remains committed to minimizing the burdens on individuals businesses, and communities for participation in and compliance with USDA programs that promote economic growth, create jobs, and protect the health and safety of the American people.

USDA programs are diverse and far reaching, as are the regulations and legislation that implement their delivery. The regulations range from nutrition standards for the school lunch program, natural resources and environmental measures governing national forest usage and soil conservation, emergency producer assistance as a result of natural disasters, to protection of American agriculture from the ravages of plant or animal pestilence. USDA regulations extend from farm to supermarket to ensure the safety, quality, and availability of the Nation's food supply. Regulations also specify how USDA conducts its business, including access to and eligibility for USDA programs. Finally, regulations specify the responsibilities of businesses, individuals, and State and local governments that are necessary to comply with their provisions.

I. Executive Orders 13563 and 13610

Executive Order 13563, “Improving Regulation and Regulatory Review,” was issued to ensure that Federal regulations use the best available tools to promote innovation that will reduce costs and burden while allowing public participation and an open exchange of ideas. These principles will enhance and strengthen Federal regulations to allow them to achieve their regulatory objectives, most important among them protecting public health, welfare, safety, and the environment. In consideration of these principles, and as directed by the Executive Order, Federal agencies and departments need to periodically review existing regulations that may be outmoded, ineffective, insufficient, or excessively burdensome and to modify, streamline, expand, or repeal them in accordance with what has been learned.

In addition, Executive Order 13610, “Identifying and Reducing Regulatory Burdens,” directed Federal agencies to conduct retrospective analyses of existing rules to examine whether they remain justified and whether they should be modified or streamlined in light of changed circumstances, including the availability of new technologies. Executive Order 13610 directs Federal agencies to give priority, consistent with law, to those initiatives that will produce significant quantifiable monetary savings or significant quantifiable reductions in paperwork burdens while protecting public health, welfare, safety, and the environment. For the regulatory requirements imposed on small businesses, it directs Federal agencies to give special consideration to initiatives that would simplify or harmonize the regulatory requirements.

As part of this retrospective review of regulations, USDA published an RFI on April 20, 2011 (76 FR 22058), and developed a final plan that focused on reducing costs and reporting requirements on the public. However, the overall intention of Executive Order 13563 was not to be a single exercise, but to create a continuing process of scrutiny of regulatory actions. Therefore, USDA is once again seeking public comment on how best to remove unintended regulatory obstacles to participation in and compliance with USDA programs and ways to improve the current regulations to help USDA agencies advance the USDA mission.

II. Request for Information

All regulatory actions by all USDA agencies are open for comment. USDA is particularly interested in public comments that speak to areas in which we can reduce costs and reporting burdens on the public, through technological advances or other modernization efforts, and comments on regulatory flexibility.

USDA's initial retrospective review under Executive Order 13563 identified eight regulations, four of which have been implemented. An additional regulation from the Forest Service on revised National Environmental Policy Act implementing procedures was also identified and implemented. USDA also identified paperwork and burden reduction initiatives under Executive Order 13610. The following table highlights USDA's key accomplishments and on-going activities pursuant to its efforts to reduce regulatory burdens:

Agency | Program or initiative | Results
Food and Nutrition Service | Direct Certification for School Meals | In School Year 2013-14, 87 percent of all children in households participating in the Supplemental Nutrition Assistance Program (SNAP) were directly certified for free school meals without a paper application. In addition, more than 14,000 high-poverty schools serving over 6.4 million students now offer free breakfasts and lunches to all of their enrolled students using third-party direct certification information instead of paper applications. The new Community Eligibility Provision was phased-in over a 3-year period, starting in school year 2011-12 in school districts across the country, including Florida, Georgia, Illinois, Kentucky, Maryland, Massachusetts, Michigan, New York, Ohio, Washington, DC, and West Virginia; the provision became available to eligible schools and districts nationwide beginning July 1, 2014. Will reduce the information collection burden by approximately 113,000 hours per year.
Forest Service | National Environmental Policy Act Implementing Procedures | Revised implementing procedures and established new categorical exclusions to expedite landscape restoration activities on National Forests, Grasslands, and Prairies. Final rule published September 12, 2013.
Food Safety and Inspection Service | Electronic Import Inspection and Certification of Imported Products and Foreign Establishments | Will reduce the information collection burden on importers by approximately 10,000 hours. Final rule published September 19, 2014.
Food Safety and Inspection Service | Electronic Export Application and Certification Fee | Expected to reduce the information collection burden hours. Proposed rule published January 23, 2012; Final rulemaking underway.
Food Safety and Inspection Service | Prior Labeling Approval System: Generic Label Approval | Will reduce the information collection burden on industry by approximately 34,971 hours. Final rule published November 7, 2013.
Rural Development Rural Business Service | Rural Energy for America Program | Streamlined grant application process reduced the information collection burden hours by approximately 20 to 50 percent. Final rule published December 29, 2014.
Rural Development Rural Business Service | Business and Industry Loan Guarantee Programs | Will reduce the information collection burden by approximately 2,000 hours. Final rule published September 15, 2014.
Rural Development Rural Housing Service | Community Facilities Loan and Grants | Will save the public approximately $4 million per year.
Farm Service Agency and Risk Management Agency | Acreage Crop Reporting Streamlining Initiative | Coordinating across the two agencies to improve, streamline, and eliminate or minimize duplicate information collection requirements.
Farm Service Agency | Streamlined Farm Loan Programs Direct Loan Making | Eliminated 17,898 responses and 6,271 hours annually for information collection burden, saving $162,607 for the respondents and $647,728 in Federal costs.
Agricultural Marketing Service | Export Certificate Forms | Amending regulations to improve oversight and ensure compliance with regulations. Changes also include removing the requirement for carriers to retain copies of inspection certificates. Rulemaking is underway.
Agricultural Marketing Service | Inspection of Eggs; Import Request for Shell Eggs | The inspection and clearance process will be reduced by approximately 48 hours. Access to the Customs and Border Protection maintained Automated Customs Environment will allow enhanced communication of the status of the clearance process involving the Food and Drug Administration, Food Safety and Inspection Service, Animal and Plant Health Inspection Service, and Agricultural Marketing Service. Rulemaking is underway.
Natural Resources Conservation Service | Conservation Delivery Streamlining Initiative (CDSI) | CDSI Client Gateway (CG) is a secure web application that will enable NRCS clients to perform many functions online and view their data without having to travel to the USDA local service center. A client will be able to request technical assistance, view their conservation plans, apply for Farm Bill conservation program financial assistance, view their contract payments for certified contract items (practices in Farm Bill conservation program contracts) upload and download supporting documentation, and sign their plans, agreements, and contracts. CG will reduce approximately 110,000 hours of travel time for clients going to agency offices and reduce the information collection burden by approximately 40,000 hours.
Animal and Plant Health Inspection Service | Declaration Forms for Imported Plant and Plant Products | In cooperation with other Federal entities, implemented initiatives to reduce the burden on importers and is developing an electronic entry system and solicited public comments on regulatory options. Cost savings to industry estimated at $1.7 million to $5.7 million for the electronic entry system and cost savings to industry estimated at $7.2 million to $24 million for the de minimis exemption approximately and a reduction of approximately 120,000 hours in information collection burden. Rulemaking is underway.
Animal and Plant Health Inspection Service | Participation in the International Trade Data System | Amending regulations to remove any impediments to the full implementation of participation in the International Trade Data System via the Automated Commercial Environment.
Animal and Plant Health Inspection Service | Certification, Accreditation, Registration, Permits, and Other Licenses | Creating a new electronic system to consolidate and streamline agency certification, accreditation, registration permit, and license processes. Expects both savings in cost and information collection burden hours.

III. Regulatory Flexibility

In addition to looking back at current regulations, USDA is also looking forward to how new regulations are implemented and how existing regulations can be improved. Regulatory flexibility includes a variety of regulatory techniques that can help avoid unnecessary costs on regulated entities and avoid negative impacts. Regulatory flexibility techniques could include:

• Pilot projects, which can be used test regulatory approaches;

• Safe harbors, which are streamlined modes of regulatory compliance and can serve to reduce compliance costs;

• Sunset provisions, which terminate a rule after a certain date;

• Trigger provisions, which specify one or more threshold indicators that the rule is designed to address;

• Phase-ins, which allow the rule to be phased-in for different groups at different times;

• Streamlined requirements, which provide exemptions or other streamlined requirements if a particular entity (for example, a small business) may otherwise experience disproportionate burden from a rule;

• State flexibilities, which provide greater flexibility to States or other regulatory partners, for example, giving them freedom to implement alternative regulatory approaches; and

• Exceptions, which allow exceptions to part or all of the rule in cases where there is a potential or suspected unintended consequence.

IV. Questions for Commenters

In providing comments, the public is encouraged to respond to the below questions:

• What regulations or reporting requirements that have become outdated and, if so, how can they be modernized to accomplish the regulatory objectives better?

• Do agencies currently collect information that they do not need or use effectively to achieve regulatory objectives?

• Which regulations, reporting requirements, or regulatory submission or application processes are unnecessarily complicated or could be streamlined to achieve regulatory objectives in ways that are more efficient?

• Which regulations, submission and application processes, or reporting requirements have been overtaken by technological developments? Can new technologies be used to modify, streamline, or do away with existing regulatory or reporting requirements?

• Which regulations provide examples of how regulatory flexibility techniques have worked well? In general, who has benefitted from the regulatory flexibility? What types of regulatory flexibility have worked well?

• What regulations would be improved through the addition of regulatory flexibility techniques? How would regulatory flexibility lower costs and burden? How would regulatory flexibility improve benefits?

This is a non-exhaustive list that is meant to assist in the formulation of comments and is not intended to limit the issues that commenters may choose to address. We welcome comments from the public on any of USDA's regulations and ways to improve them to help USDA agencies advance the mission of the Department consistent with the Executive Order. USDA notes that this RFI is issued solely for information and program-planning purposes. While responses to this RFI do not bind USDA to any further actions related to the response, all submissions will be made publicly available on http://www.regulations.gov.

Thomas J. Vilsack,
Secretary of Agriculture.

[FR Doc. 2015-05742 Filed 3-16-15; 08:45 am]

BILLING CODE 3410-90-P